DEPARTMENT OF HOMELAND SECURITY

Federal Emergency Management Agency

44 CFR Part 67

[Docket No. FEMA-D-7814]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Rowan County, North Carolina and Incorporated Areas
Grants Creek | At the confluence with Yadkin River | None | +643 | Rowan County (Unincorporated Areas), City of Salisbury, Town of China Grove, Town of Landis, Town of Spencer.
| Approximately 1,190 feet upstream of North Meriah Street | +827 | +835
Tributary 2 | Approximately 1,000 feet upstream of the confluence with Grants Creek | +674 | +675 | City of Salisbury.
| Approximately 0.4 mile upstream of the confluence with Grants Creek | None | +688
Hopkins Street Branch | At the confluence with Town Creek | +707 | +705 | City of Salisbury.
| Approximately 250 feet upstream of the confluence with Town Creek | +707 | +705
Lomax Creek | At the confluence with Grants Creek | +637 | +644 | Town of Spencer.
| Approximately 750 feet upstream of the confluence with Grants Creek | +641 | +644
Mill Creek | Approximately 250 feet downstream of the Rowan/Cabarrus County boundary | None | +713 | Rowan County (Unincorporated Areas).
| Approximately 400 feet upstream of Smith Road (State Road 1361) | None | +799
Rocky Branch | At the confluence with Grants Creek | +641 | +644 | Town of Spencer.
| Approximately 1,200 feet upstream of the confluence with Grants Creek | +641 | +644
Rowan Avenue Park Stream | At the confluence with Grants Creek | +629 | +644 | Rowan County (Unincorporated Areas), Town of Spencer.
| Approximately 150 feet upstream of Charles Street | +641 | +644
Sixth Street Branch | At the confluence with Grants Creek | +641 | +644 | Town of Spencer.
| Approximately 700 feet upstream of the confluence with Grants Creek | +641 | +644
South Yadkin River | At the confluence with Yadkin River | None | +648 | Rowan County (Unincorporated Areas), City of Salisbury.
| At the Iredell/Davie/Rowan County boundary | None | +697
Third Street Creek | At the confluence with Grants Creek | +636 | +644 | Town of Spencer.
| Approximately 1,260 feet upstream of the confluence with Grants Creek | +641 | +644
Yadkin River | Approximately 500 feet downstream of the Rowan/Davidson/Stanly/ Montgomery County boundary | None | +566 | Rowan County (Unincorporated Areas), Town of Spencer.
| At the confluence of South Yadkin River | None | +648
* National Geodetic Vertical Datum.
# Depth in feet above ground.
+ North American Vertical Datum.
ADDRESSES
City of Salisbury
Maps are available for inspection at Salisbury City Hall, 217 South Main Street, Salisbury, North Carolina.
Send comments to Mr. David Treme, Salisbury City Manager, P.O. Box 479, Salisbury, North Carolina 28145.
Town of China Grove
Maps are available for inspection at China Grove Town Hall, 205 Swink Street, China Grove, North Carolina.
Send comments to The Honorable Don Bringle, Mayor of the Town of China Grove, 205 Swink Street, China Grove, North Carolina 28023.
Town of Landis
Maps are available for inspection at Landis Town Hall, 312 South Main Street, Landis, North Carolina.
Send comments to The Honorable Mike Mahaley, Mayor of the Town of Landis, P.O. Box 8165, Landis, North Carolina 28088.

(Catalog of Federal Domestic Assistance No. 97.022, “Flood Insurance.”)

Dated: August 9, 2007.
David I. Maurstad,
Federal Insurance Administrator of the National Flood Insurance Program, Department of Homeland Security, Federal Emergency Management Agency.

[FR Doc. E7-16270 Filed 8-17-07; 8:45 am]

BILLING CODE 9110-12-P